DEPARTMENT OF ENERGY

Rescinded Guidance Materials

AGENCY: Department of Energy.

ACTION: Notification of rescinded materials.

SUMMARY: This document announces the recent rescission of several U.S. Department of Energy guidance materials.

FOR FURTHER INFORMATION CONTACT: Mr. David Taggart, U.S. Department of Energy, Office of the General Counsel, GC-1, 1000 Independence Avenue SW, Washington, DC 20585-0121. Telephone: (202) 586-5281. Email: DOEGeneralCounsel@hq.doe.gov.

SUPPLEMENTARY INFORMATION: This document announces the rescission of several U.S. Department of Energy (DOE) guidance materials. DOE identified these materials as part of the regulatory review required by Executive Order (E.O.) 14219, “Ensuring Lawful Governance and Implementing the President's `Department of Government Efficiency' Deregulatory Initiative,” 90 FR 10583 (Feb. 25, 2025). The materials rescinded are as follows:

• July 13, 2000, Suspension on the Unrestricted Release of Scrap Metal from Radiation Areas within DOE Facilities

• January 12, 2000, Moratorium on the Free Release of Volumetrically Contaminated Metals

• Guidance for Implementing the Department of Energy Carbon Pollution-Free Electricity Roadmap

• Department of Energy Carbon Pollution-Free Electricity Roadmap

• Department of Energy Sustainability Plan

• Climate Adaptation and Resilience Plan

• Secretarial Direction Promoting Sustainable Transportation at the Department of Energy Through Federal Travel

• Implementation Guidance for Energy Efficient Transformer Rebates

• Implementation Guidance for Extended Product System Rebates

Signing Authority

This document of the Department of Energy was signed on May 9, 2025, by Chris Wright, Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on May 12, 2025.
Jennifer Hartzell,
Alternate Federal Register Liaison Officer, U.S. Department of Energy.

[FR Doc. 2025-08685 Filed 5-14-25; 8:45 am]

BILLING CODE 6450-01-P